DEPARTMENT OF HOMELAND SECURITY

Federal Emergency Management Agency

44 CFR Part 67

[Docket ID FEMA-2008-0020; Internal Agency Docket No. FEMA-B-1075]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 25, 2010.

ADDRESSES: The corresponding preliminary Flood Insurance Rate Map (FIRM) for the proposed BFEs for each community is available for inspection at the community's map repository. The respective addresses are listed in the table below.

You may submit comments, identified by Docket No. FEMA-B-1075, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Peoria County, Illinois, and Incorporated Areas
Illinois River | Peoria/Fulton County Boundary | +455 | +454 | Unincorpo­rated Areas of Peoria County, City of Pekin, City of Peoria, Village of Bartonville, Village of Kingston Mines, Village of Mapleton.
| Approximately 1.27 Miles downstream of the Peoria and Pekin Union Railroad | +459 | +458
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Pekin
Maps are available for inspection at City Hall, 111 South Capital Street, Pekin, IL 61554.
City of Peoria
Maps are available for inspection at City Hall, 419 Fulton Street, Peoria, IL 61602.
Unincorporated Areas of Peoria County
Maps are available for inspection at the Planning and Zoning Department, 324 Main Street, Room 301, Peoria, IL 61602.
Village of Bartonville
Maps are available for inspection at the Village Hall, 5912 South Adams Street, Bartonville, IL 61607.
Village of Kingston Mines
Maps are available for inspection at the Planning and Zoning Department, 324 Main Street, Room 301, Peoria, IL 61602.
Village of Mapleton
Maps are available for inspection at the Planning and Zoning Department, 324 Main Street, Room 301, Peoria, IL 61602.
Clayton County, Iowa, and Incorporated Areas
Mississippi River | Clayton/Dubuque County boundary | None | +616 | Unincorpo­rated Areas of Clayton County, City of Clayton, City of Guttenberg, City of Marquette, City of McGregor, City of North Buena Vista.
| Clayton/Allamakee County boundary, approximately 2.5 miles upstream of the Marquette-Joliet U.S. Route 18 Bridge | None | +629
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Clayton
Maps are available for inspection at 302 Main Street, Clayton, IA 52049.
City of Guttenberg
Maps are available for inspection at 502 South 1st Street, Guttenberg, IA 52052.
City of Marquette
Maps are available for inspection at 88 North Street, Marquette, IA 52158.
City of McGregor
Maps are available for inspection at 416 Main Street, McGregor, IA 52157.
City of North Buena Vista
Maps are available for inspection at 502 Walnut Street, North Buena Vista, IA 52066.
Unincorporated Areas of Clayton County
Maps are available for inspection at 100 Sandpit Road, Elkader, IA 52043.
Jackson County, Iowa, and Incorporated Areas
Deutel Hollow Branch 2 | At the confluence of Deutel Hollow Branch 2 and Mill Creek | None | +613 | City of Bellevue.
| Approximately 170 feet upstream of Park Street | None | +623
Deutel Hollow Main Branch | At the confluence of Deutel Hollow Main Branch and Mill Creek | None | +614 | City of Bellevue.
| Immediately downstream of Maple Street | None | +680
Mill Creek | At the confluence of Mill Creek and Mississippi River | None | +602 | Unincorpo­rated Areas of Jackson County.
| Approximately 0.28 mile upstream of Riverview Street | None | +604
| Approximately 0.74 mile downstream of State Highway 62 | None | +614
| Approximately 0.25 mile upstream of State Highway 62 | None | +629
Mississippi River | Clinton/Jackson County boundary | None | +594 | Unincorpo­rated Areas of Jackson County.
| Approximately 11 miles upstream of Lock & Dam 12 | None | +603
Prairie Creek | Approximately 150 feet downstream of South Main Street | None | +677 | City of Maquoketa, Unincorporated Areas of Jackson County.
| Just downstream of U.S. Route 61 | None | +681
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bellevue
Maps are available for inspection at 106 North 3rd Street, Bellevue, IA 52031.
City of Maquoketa
Maps are available for inspection at 201 East Pleasant Street, Maquoketa, IA 52060.
Unincorporated Areas of Jackson County
Maps are available for inspection at 201 West Platt Street, Maquoketa, IA 52060.
Jones County, Iowa, and Incorporated Areas
Maquoketa River | Approximately 425 feet downstream of U.S. Highway 151 | None | +803 | Unincorpo­rated Areas of Jones County.
| Approximately 0.73 mile upstream of U.S. Highway 151 | None | +805
Unnamed Stream | Approximately 600 feet downstream of U.S. Highway 151 | None | +818 | Unincorpo­rated Areas of Jones County.
| Approximately 250 feet downstream of U.S. Highway 151 | None | +819
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Jones County
Maps are available for inspection at the County Courthouse, 500 West Main Street, Anamosa, IA 52205.
Barton County, Missouri, and Incorporated Areas
North Fork Spring River | Approximately 6,200 feet downstream of Village of Lamar Heights corporate limits | None | +935 | Unincorpo­rated Areas of Barton County, Village of Lamar Heights.
| Approximately 600 feet upstream of City of Lamar corporate limits | None | +942
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Barton County
Maps are available for inspection at 1004 Gulf Street, Room 103, Lamar, MO 64759.
Village of Lamar Heights
Maps are available for inspection at 1004 Gulf Street, Room 103, Lamar, MO 64759.
Henry County, Missouri, and Incorporated Areas
Harry S. Truman Reservoir | Shoreline of Harry S. Truman Reservoir | None | +741 | City of Calhoun, City of Brownington, City of Deepwater, City of Hartwell, City of Ladue, City of Urich, Unincorporated Areas of Henry County.
Montrose Reservoir | Shoreline of Montrose Reservoir | None | +755 | Unincorpo­rated Areas of Henry County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Brownington
Maps are available for inspection at 100 West Franklin Street, Clinton, MO 64735.
City of Calhoun
Maps are available for inspection at 201 East Main Street, Calhoun, MO 65323.
City of Deepwater
Maps are available for inspection at 259 Southwest Highway 52, Deepwater, MO 64740.
City of Hartwell
Maps are available for inspection at 100 West Franklin Street, Clinton, MO 64735.
City of Ladue
Maps are available for inspection at 100 West Franklin Street, Clinton, MO 64735.
City of Urich
Maps are available for inspection at 308 Main Street, Urich, MO 64788.
Unincorporated Areas of Henry County
Maps are available for inspection at 100 West Franklin Street, Clinton, MO 64735.
Lafayette County, Missouri, and Incorporated Areas
Missouri River | Approximately U.S. Highway 24 | None | +677 | City of Waverly.
| Approximately 1,100 feet upstream of U.S. Highway 24 | None | +678
Missouri River | Approximately 53,000 feet upstream of U.S. Highway 24 | *686 | +684 | Unincorpo­rated Areas of Lafayette County, City of Lexington, City of Napoleon, City of Wellington.
| Approximately 2,825 feet downstream of the county boundaries of Jackson and Lafayette Counties | *711 | +709
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Lexington
Maps are available for inspection at 919 Franklin Street, Lexington, MO 64067.
City of Napoleon
Maps are available for inspection at 191 West 2nd Street, Napoleon, MO 64074.
City of Waverly
Maps are available for inspection at 111 East Kelling Avenue, Waverly, MO 64096.
City of Wellington
Maps are available for inspection at 101 East 4th Street, Wellington, MO 64097.
Unincorporated Areas of Lafayette County
Maps are available for inspection at 1106 Main Street, Lexington, MO 64067.
Newton County, Missouri, and Incorporated Areas
Shoal Creek | Approximately 400 feet upstream of the Town of Grand Falls Plaza corporate limits | *891 | +887 | Town of Grand Falls Plaza.
Shoal Creek | Approximately 75 feet downstream of Shoal Creek Estates corporate limits | None | +898 | Town of Shoal Creek Drive.
| Approximately 175 feet upstream of Shoal Creek Drive corporate limits | None | +903
Shoal Creek | Approximately 75 feet downstream of Shoal Creek Estates corporate limits | None | +915 | City of Shoal Creek Estates.
Shoal Creek | Approximately 150 feet downstream of Village of Cliff Village corporate limits | None | +906 | Village of Cliff Village.
South Indian Creek | Approximately 300 feet downstream of Ozark Street | None | +1119 | City of Stella.
| Approximately 150 feet upstream of Ozark Street | None | +1122
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Shoal Creek Estates
Maps are available for inspection at 101 South Wood Street, Neosho, MO 64850.
City of Stella
Maps are available for inspection at 744 Ozark Street, Stella, MO 64867.
Town of Grand Falls Plaza
Maps are available for inspection at 101 South Wood Street, Neosho, MO 64850.
Town of Shoal Creek Drive
Maps are available for inspection at 101 South Wood Street, Neosho, MO 64850.
Village of Cliff Village
Maps are available for inspection at 101 South Wood Street, Neosho, MO 64850.
Grand Forks County, North Dakota, and Incorporated Areas
Red River of the North | Approximately 2,137 feet downstream of 13th Avenue NE Extended | +835 | +837 | City of Grand Forks, Unincorporated Areas of Grand Forks County.
| Just downstream of the Southern Grand Forks County limit | None | +854
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Grand Forks
Maps are available for inspection at 225 North 4th Street, Grand Forks, ND 58506.
Unincorporated Areas of Grand Forks County
Maps are available for inspection at 151 South 4th Street, Grand Forks, ND 58506.
Butler County, Ohio, and Incorporated Areas
Dicks Creek | Approximately 500 feet upstream of Main Street | None | +631 | City of Middletown, City of Monroe, Unincorporated Areas of Butler County.
| Approximately 1,270 feet upstream of Cincinnati-Dayton Road | None | +660
Elk Creek | Approximately 0.7 mile downstream of Howe Road | None | +648 | City of Trenton.
| Approximately 0.5 mile downstream of Howe Road | None | +654
Four Mile Creek | Approximately 1,250 feet upstream of Bonham Road | None | +796 | City of Oxford.
Four Mile Creek | Approximately 0.7 mile upstream of Seven Mile Avenue | None | +600 | Village of New Miami.
| Approximately 0.8 mile upstream of Seven Mile Avenue | None | +601
GM Ditch | At the confluence of GM Ditch with Pleasant Run | +595 | +596 | City of Fairfield.
| Approximately 1,200 feet upstream of Symmes Road | None | +605
Great Miami River | Approximately 0.5 mile downstream of State Route 73 | None | +637 | City of Middletown.
| Approximately 1.5 mile upstream of State Route 4 | None | +661
Great Miami River | Approximately 1.4 mile upstream of the confluence of Great Miami River with Gregory Creek | None | +626 | City of Trenton.
Jackson Ditch | Approximately 1,000 feet downstream of Wehr Road | None | +627 | Unincorpo­rated Areas of Butler County.
| Approximately 1,840 feet upstream of Trenton Road | None | +649
Jackson Ditch East Fork | At the confluence of Jackson Ditch East Branch of East Fork with Jackson Ditch East Fork | None | +701 | Unincorpo­rated Areas of Butler County.
| Approximately 110 feet upstream of Howe Road | None | +750
Jackson Ditch East Fork | At the confluence of Jackson Ditch East Fork with Jackson Ditch | None | +651 | Unincorpo­rated Areas of Butler County, City of Trenton.
| Approximately 80 feet upstream of Howe Road | None | +756
Jackson Ditch West Fork | At the confluence of Jackson Ditch West Fork with Jackson Ditch | None | +651 | Unincorpo­rated Areas of Butler County.
| Approximately 130 feet upstream of Howe Road | None | +807
Mill Creek | Just downstream of Seward Road | None | +606 | City of Hamilton.
| Approximately 190 feet upstream of Seward Road | None | +609
Millers Creek | Approximately 500 feet downstream of the railroad | None | +652 | City of Middletown.
| Approximately 400 feet downstream of Cincinnati-Dayton Road | None | +654
Pleasant Run | Just upstream of Groh Lane | +570 | +566 | City of Fairfield.
| Just downstream of East River Road | +581 | +584
| Just upstream of Nilles Road | +597 | +598
| Just upstream of John Gray Road | +663 | +665
Pleasant Run Branch No. 4 | At the confluence of Pleasant Run Branch No. 4 with Pleasant Run | +607 | +610 | City of Fairfield.
| Just upstream of Resor Road | None | +634
Shakers Creek | At the confluence of Shakers Creek with Dicks Creek | None | +650 | City of Middletown.
| Just downstream of Cincinnati-Dayton Road | None | +654
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Fairfield
Maps are available for inspection at 5350 Pleasant Avenue, Fairfield, OH 45014.
City of Hamilton
Maps are available for inspection at 20 High Street, Hamilton, OH 45011.
City of Middletown
Maps are available for inspection at One Donham Plaza, Middletown, OH 45042.
City of Monroe
Maps are available for inspection at 233 South Main Street, Monroe, OH 45050.
City of Oxford
Maps are available for inspection at 101 East High Street, Oxford, OH 45056.
City of Trenton
Maps are available for inspection at 11 East State Street, Trenton, OH 45067.
Unincorporated Areas of Butler County
Maps are available for inspection at 130 High Street, 3rd Floor, Hamilton, OH 45011.
Village of New Miami
Maps are available for inspection at 268 Whitaker Avenue, Hamilton, OH 45011.
Warren County, Ohio, and Incorporated Areas
Hoff Run | Just upstream of the confluence of Hoff Run with Great Miami River | None | +613 | City of Mason.
| Approximately 1,535 feet upstream of Eagle View Drive | None | +829
Little Miami River | Approximately 1.6 mile upstream of South Main Street | None | +634 | Village of South Lebanon.
Muddy Creek | Approximately 0.4 mile downstream of Mason-Morrow-Millgrove Road | None | +656 | City of Mason.
| Just downstream of Tylersville Road | +801 | +803
Muddy Creek Branch No. 1 | Approximately 575 feet downstream of U.S. Route 42 | +741 | +742 | City of Mason.
| Approximately 650 feet upstream of Mason Road | +821 | +819
Pine Run | Approximately 400 feet downstream of Kings Mill Road | +754 | +752 | City of Mason.
| Approximately 0.5 mile upstream of Tylersville Road | None | +857
Satterthwaites Run | Approximately 1,400 feet upstream of U.S. Route 42 | None | +767 | Unincorpo­rated Areas of Warren County.
| Approximately 1,465 feet upstream of U.S. Route 42 | None | +768
Turtle Creek | Approximately 530 feet upstream of Mason-Morrow-Millgrove Road | None | +634 | Village of South Lebanon.
| Approximately 1,190 feet downstream of Interstate 71 | None | +635
Twin Creek No. 2 | Just upstream of Pennyroyal Road | None | +874 | Unincorpo­rated Areas of Warren County.
| Approximately 1,250 feet upstream of Pennyroyal Road | None | +882
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Mason
Maps are available for inspection at 202 West Main Street, Mason, OH 45040.
Unincorporated Areas of Warren County
Maps are available for inspection at 406 Justice Drive, Room 167, Lebanon, OH 45036.
Village of South Lebanon
Maps are available for inspection at 99 North High Street, Lebanon, OH 45065.
Columbia County, Oregon, and Incorporated Areas
Nehalem River | Approximately 0.29 mile upstream of State Highway 47 bridge | +610 | +613 | City of Vernonia, Unincorporated Areas of Columbia County.
| Approximately 0.46 mile downstream of Sword Place | +621 | +623
Rock Creek | Approximately at confluence with Nehalem River | +618 | +620 | City of Vernonia, Unincorporated Areas of Columbia County.
| Approximately 0.72 mile upstream of Bridge Street | +621 | +622
Rock Creek Overbank | Approximately at confluence of Rock Creek | +615 | +617 | City of Vernonia.
| Approximately 400 feet upstream of Washington Avenue | +619 | +621
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Vernonia
Maps are available for inspection at 1001 Bridge Street, Vernonia, OR 97064.
Unincorporated Areas of Columbia County
Maps are available for inspection at 230 Strand Street, St. Helens, OR 97051.
Washington County, Rhode Island (All Jurisdictions)
Mattatuxet River | At the confluence with Pettaquamscutt River | +11 | +10 | Town of North Kingstown.
| At downstream side of Gilbert Stuart Dam | +11 | +10
Narragansett Bay (Mill Creek) | From a point approximately 500 feet northwest of the intersection of Asqah Drive and Camp Avenue, extending northeast to Quonset Road and following the unnamed tributary to Mill Creek, to a point approximately 600 feet east of the intersection of Camp Avenue and Gateway Road | None | +12 | Town of North Kingstown.
Pawcatuck River | Approximately 70 feet upstream of Ashaway Road (State Route 3) | None | +33 | Town of Hopkinton, Town of Richmond.
| Approximately 1,518 feet upstream of Biscuit City Road | None | +89
Pettaquamscutt River | At Town of North Kingstown/South Kingstown/Narragansett corporate limits (approximately 5,060 feet upstream of Bridgetown Road) | +11 | +10 | Town of North Kingstown.
| At the confluence with Mattatuxet River | +11 | +10
Tomaquag Brook | At the confluence with Pawcatuck River | None | +35 | Town of Hopkinton.
| Approximately 1,210 feet downstream of Chase Hill Road | +33 | +35
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Hopkinton
Maps are available for inspection at the Town Hall, 1 Town House Road, Hopkinton, RI 02833.
Town of North Kingstown
Maps are available for inspection at the Department of Public Works and Engineering, 2050 Davisville Road, North Kingstown, RI 02852.
Town of Richmond
Maps are available for inspection at the Town Hall, 5 Richmond Townhouse Road, Wyoming, RI 02898.
Crawford County, Wisconsin, and Incorporated Areas
Baker Creek | Approximately 590 feet downstream of confluence with the Unnamed Tributary to Baker Creek | +759 | +758 | Village of Soldiers Grove.
| Approximately 230 feet downstream of U.S. Highway 61 | +777 | +778
Kickapoo River | Just over 1 mile upstream of State Highway 179 | None | +672 | Village of Steuben, Unincorporated Areas of Crawford County.
| 3,190 feet upstream of Bridge Street | None | +676
| 1,540 feet upstream of County Highway S | None | +695
| Approximately 1.75 mile upstream of State Highway 171 | None | +705
| Approximately 0.8 mile upstream from Trout Creek Road | None | +734
Mississippi River | At River Mile Marker 636 | +630 | +629 | Village of De Soto, City of Prairie Du Chien, Unincorporated Areas of Crawford County, Village of Ferryville, Village of Lynxville.
| Approximately 4.25 miles upstream from State Highway 82 | +634 | +633
Unnamed Tributary to Baker Creek | 3,075 feet upstream of U.S. Highway 61 | None | +902 | Unincorpo­rated Areas of Crawford County.
Wisconsin River | 205 feet downstream of River Mile Marker 15 | +642 | +640 | Village of Wauzeka.
| 1,245 feet upstream of River Mile Marker 17 | +644 | +643
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Prairie Du Chien
Maps are available for inspection at 214 East Blackhawk Avenue, Prairie Du Chien, WI 53821.
Unincorporated Areas of Crawford County
Maps are available for inspection at 225 North Beaumont Road, Prairie Du Chien, WI 53821.
Village of De Soto
Maps are available for inspection at 115 South Houghton Street, De Soto, WI 54624.
Village of Ferryville
Maps are available for inspection at 170 Pine Street, Ferryville, WI 54628.
Village of Lynxville
Maps are available for inspection at 475 Bench Street, Lynxville, WI 54626.
Village of Soldiers Grove
Maps are available for inspection at 102 Passive Sun Drive, Soldiers Grove, WI 54655.
Village of Steuben
Maps are available for inspection at 123 Midway Street, Steuben, WI 54657.
Village of Wauzeka
Maps are available for inspection at 213B East Front Street, Wauzeka, WI 53826.

(Catalog of Federal Domestic Assistance No. 97.022, “Flood Insurance.”)

Deborah S. Ingram,
Acting Deputy Assistant Administrator for Mitigation, Mitigation Directorate, Department of Homeland Security, Federal Emergency Management Agency.

[FR Doc. E9-25861 Filed 10-26-09; 8:45 am]

BILLING CODE 9110-12-P